SECURITIES AND EXCHANGE COMMISSION

[Release No. 34-65221; File No. SR-FINRA-2011-042]

Self-Regulatory Organizations; Financial Industry Regulatory Authority, Inc.; Notice of Filing and Immediate Effectiveness of Proposed Rule Change Relating to Fee for the Operations Professional Examination

August 30, 2011.

Correction

In notice document 2011-22764 appearing on pages 55441-55445 in the issue of September 7, 2011, make the following correction:

On page 55441, in the third column, the File No. in the heading is corrected to read as set forth above.

[FR Doc. C1-2011-22764 Filed 9-16-11; 8:45 am]

BILLING CODE 1505-01-D